DEPARTMENT OF THE INTERIOR

National Park Service

Notice of Inventory Completion for Native American Human Remains and Associated Funerary Objects in the Control of the U.S. Department of Defense, U.S. Army, Pohakuloa Training Area, U.S. Army Garrison, HI

AGENCY: National Park Service, Interior.

ACTION: Notice.

Notice is hereby given in accordance with provisions of the Native American Graves Protection and Repatriation Act (NAGPRA), 43 CFR 10.9, of the completion of an inventory of human remains and associated funerary objects in the control of the U.S. Department of Defense, U.S. Army, Pohakuloa Training Area, U.S. Army Garrison, HI.

This notice is published as part of the National Park Service's administrative responsibilities under NAGPRA, 43 CFR 10.2 (c). The determinations within this notice are the sole responsibility of the museum, institution, or Federal agency that has control of these Native Hawaiian human remains and associated funerary objects. The National Park Service is not responsible for the determinations within this notice.

A detailed assessment of the human remains was made by U. S. Army installation staff, and U.S. Army Corps of Engineers, St. Louis District, MO, Mandatory Center of Expertise for the Curation and Management of Archaeological Collections professional staff in consultation with representatives of Koa Mana, Hui Malama I Na Kupuna O Hawai'i Nei, the Hawai'i Island Burial Council, and the Office of Hawaiian Affairs.

In 1985, human remains representing one individual were removed during archeological testing at the Bobcat Trail Habitation Cave site (HI Site No. 50-10-30-5004), Hawai'i Island, by Paul H. Rosendahl, Inc., staff under contract to the U.S. Army Corps of Engineers, Honolulu District. No known individual was identified. No associated funerary objects are present.

The remains were found in an ash deposit in the cave. Volcanic glass hydration dating of obsidian associated with the feature indicates a date range of A.D. 1468-1552 for the formation of the deposit.

In 1987, human remains representing one individual were removed during archeological excavations at HI Site No. 50-10-30-10650, Hawai'i Island, by International Archaeological Research Institute, Inc., staff under contract to the U.S. Army Corps of Engineers, Honolulu District. No known individual was identified. No associated funerary objects are present.

The remains were removed from a hearth deposit. Radiocarbon dating provides a date range of A.D. 1153-1311 for the formation of the hearth.

Osteological characteristics identify these human remains as Native American. Based on the geographical location and dates of the sites, these remains are identified as Native Hawaiian.

Based on the above-mentioned information, officials of the U.S. Army have determined that, pursuant to 43 CFR 10.2 (d)(1), the human remains listed above represent the physical remains of two individuals of Native Hawaiian ancestry. Officials of the U.S. Army also have determined that, pursuant to 43 CFR 10.2 (e), there is a relationship of shared group identity that can be reasonably traced between these Native Hawaiian human remains and the Koa Mana, Hui Malama I Na Kupuna O Hawai'i Nei, the Hawai'i Island Burial Council, and the Office of Hawaiian Affairs.

This notice has been sent to officials of the Koa Mana, Hui Malama I Na Kupuna ‘O Hawaii Nei, the Hawai'i Island Burial Council, and the Office of Hawaiian Affairs. Representatives of any other Native Hawaiian organization that believes itself to be culturally affiliated with these human remains should contact Dr. Laurie Lucking, Cultural Resources Manager, Environmental Division, USAGHI, Building 105, WAAF, Schofield Barracks, HI 96857, telephone (808) 656-2878, extension 1052, before December 13, 2001. Repatriation of the human remains to the Koa Mana, Hui Malama I Na Kupuna O Hawai'i Nei, the Hawai'i Island Burial Council, and the Office of Hawaiian Affairs may begin after that date if no additional claimants come forward.

Dated: September 4, 2001.
John Robbins,
Assistant Director, Cultural Resources Stewardship and Partnerships.

[FR Doc. 01-28306 Filed 11-09-01; 8:45 am]

BILLING CODE 4310-70-S